DEPARTMENT OF ENERGY

Federal Energy Regulatory Commission

Combined Notice of Filings #2

Take notice that the Commission received the following electric corporate filings:

Docket Numbers: EC23-84-000.

Applicants: Wisconsin Power and Light Company.

Description: Joint Application for Authorization Under Section 203 of the Federal Power Act of Wisconsin Power and Light Company.

Filed Date: 5/1/23.

Accession Number: 20230501-5562.

Comment Date: 5 p.m. ET 5/22/23.

Take notice that the Commission received the following Complaints and Compliance filings in EL Dockets:

Docket Numbers: EL23-64-000; QF23-886-001.

Applicants: 2014 ESA Project Company, LLC, 2014 ESA Project Company, LLC, Generate Capital, PBC.

Description: Petition for Declaratory Order, et al. of 2014 ESA Project Company, LLC.

Filed Date: 4/28/23.

Accession Number: 20230428-5663.

Comment Date: 5 p.m. ET 5/30/23.

Take notice that the Commission received the following electric rate filings:

Docket Numbers: ER21-2782-004; ER22-149-004.

Applicants: Sagebrush Line, LLC, Sagebrush ESS, LLC.

Description: Notice of Non-Material Change in Status of Sagebrush ESS, LLC, et al.

Filed Date: 5/1/23.

Accession Number: 20230501-5561.

Comment Date: 5 p.m. ET 5/22/23.

Docket Numbers: ER23-1470-000; ER23-1476-000.

Applicants: Cottontail Solar 8, LLC, Cottontail Solar 2, LLC.

Description: Supplement to March 27, 2023, Cottontail Solar 2, LLC, et al. tariff filings.

Filed Date: 4/20/23.

Accession Number: 20230420-5250.

Comment Date: 5 p.m. ET 5/11/23.

Docket Numbers: ER23-1796-000.

Applicants: Marina Energy, LLC.

Description: Compliance filing: Tariff Revisions to be effective 5/2/2023.

Filed Date: 5/1/23.

Accession Number: 20230501-5338.

Comment Date: 5 p.m. ET 5/22/23.

Docket Numbers: ER23-1797-000.

Applicants: MS Solar 3, LLC.

Description: Compliance filing: Tariff Revisions to be effective 5/2/2023.

Filed Date: 5/1/23.

Accession Number: 20230501-5340.

Comment Date: 5 p.m. ET 5/22/23.

Docket Numbers: ER23-1798-000.

Applicants: Sweetwater Solar, LLC.

Description: Compliance filing: Tariff Revisions to be effective 5/2/2023.

Filed Date: 5/1/23.

Accession Number: 20230501-5358.

Comment Date: 5 p.m. ET 5/22/23.

Docket Numbers: ER23-1799-000.

Applicants: Three Peaks Power, LLC.

Description: Compliance filing: Tariff Revisions to be effective 5/2/2023.

Filed Date: 5/1/23.

Accession Number: 20230501-5362.

Comment Date: 5 p.m. ET 5/22/23.

Docket Numbers: ER23-1800-000.

Applicants: Twiggs County Solar, LLC.

Description: Compliance filing: Tariff Revisions to be effective 5/2/2023.

Filed Date: 5/1/23.

Accession Number: 20230501-5365.

Comment Date: 5 p.m. ET 5/22/23.

Docket Numbers: ER23-1801-000.

Applicants: PJM Interconnection, L.L.C.

Description: § 205(d) Rate Filing: Original ISA, SA No. 6879; Queue Nos. AD1-056/AD1-057 to be effective 3/30/2023.

Filed Date: 5/1/23.

Accession Number: 20230501-5384.

Comment Date: 5 p.m. ET 5/22/23.

Docket Numbers: ER23-1802-000.

Applicants: PJM Interconnection, L.L.C.

Description: § 205(d) Rate Filing: Amendment to ISA, SA No. 6269; Queue No. AE2-059 (amend) to be effective 7/2/2023.

Filed Date: 5/2/23.

Accession Number: 20230502-5053.

Comment Date: 5 p.m. ET 5/23/23.

Docket Numbers: ER23-1803-000.

Applicants: Midcontinent Independent System Operator, Inc.

Description: § 205(d) Rate Filing: 2023-05-02_MISO SPP JOA re: Improve Affected Systems Coordination Processes to be effective 7/2/2023.

Filed Date: 5/2/23.

Accession Number: 20230502-5088.

Comment Date: 5 p.m. ET 5/23/23.

Docket Numbers: ER23-1804-000.

Applicants: Michigan Electric Transmission Company, LLC.

Description: MISO Schedule 50 Cost Recovery Filing of Michigan Electric Transmission Company, LLC.

Filed Date: 5/1/23.

Accession Number: 20230501-5556.

Comment Date: 5 p.m. ET 5/22/23.

Docket Numbers: ER23-1805-000.

Applicants: Michigan Electric Transmission Company, LLC.

Description: MISO Schedule 50 Cost Recovery Filing of Michigan Electric Transmission Company, LLC.

Filed Date: 5/1/23.

Accession Number: 20230501-5557.

Comment Date: 5 p.m. ET 5/22/23.

Docket Numbers: ER23-1806-000.

Applicants: Entergy Arkansas, LLC, Entergy Louisiana, LLC, Entergy Mississippi, LLC, Entergy New Orleans, LLC, Entergy Texas, Inc.

Description: Annual Informational Filing regarding Prepaid Pension Cost and Accrued Pension Cost of Entergy Arkansas, LLC, et al.

Filed Date: 5/1/23.

Accession Number: 20230501-5558.

Comment Date: 5 p.m. ET 5/22/23.

Docket Numbers: ER23-1807-000.

Applicants: System Energy Resources, Inc.

Description: Annual Informational Filing regarding Prepaid Pension Cost and Accrued Pension Cost of System Energy Resources, Inc.

Filed Date: 5/1/23.

Accession Number: 20230501-5559.

Comment Date: 5 p.m. ET 5/22/23.

Docket Numbers: ER23-1808-000.

Applicants: Entergy Arkansas, LLC, Entergy Louisiana, LLC, Entergy Mississippi, LLC, Entergy New Orleans, LLC, Entergy Texas, Inc.

Description: Post-Retirement Benefits Other than Pensions for 2022 Calendar Year of Entergy Arkansas, LLC, et al.

Filed Date: 5/1/23.

Accession Number: 20230501-5560.

Comment Date: 5 p.m. ET 5/22/23.

Docket Numbers: ER23-1809-000.

Applicants: Southwest Power Pool, Inc.

Description: § 205(d) Rate Filing: SPP-MISO JOA Revisions to Improve Affected Systems Coordination Process to be effective 7/2/2023.

Filed Date: 5/2/23.

Accession Number: 20230502-5175.

Comment Date: 5 p.m. ET 5/23/23.

Docket Numbers: ER23-1810-000.

Applicants: Indian Creek Solar Farm LLC.

Description: Baseline eTariff Filing: Application for Market-Based Rate Authorization to be effective 7/3/2023.

Filed Date: 5/2/23.

Accession Number: 20230502-5184.

Comment Date: 5 p.m. ET 5/23/23.

Docket Numbers: ER23-1811-000.

Applicants: Sol InfraCo MT1, LLC.

Description: Baseline eTariff Filing: Application for Market-Based Rate Authorization to be effective 12/31/9998.

Filed Date: 5/2/23.

Accession Number: 20230502-5186.

Comment Date: 5 p.m. ET 5/23/23.

Docket Numbers: ER23-1812-000.

Applicants: Sunflower Energy Center, LLC.

Description: Baseline eTariff Filing: Application for MBR Authorization with Waiver Requests to be effective 5/3/2023.

Filed Date: 5/2/23.

Accession Number: 20230502-5188.

Comment Date: 5 p.m. ET 5/23/23.

Take notice that the Commission received the following qualifying facility filings:

Docket Numbers: QF23-889-000.

Applicants: 2014 ESA Project Company, LLC.

Description: Form 556 of 2014 ESA Project Company, LLC [1152 E California].

Filed Date: 4/28/23.

Accession Number: 20230428-5722.

Comment Date: 5 p.m. ET 5/19/23.

Docket Numbers: QF23-890-000.

Applicants: 2014 ESA Project Company, LLC.

Description: Form 556 of 2014 ESA Project Company, LLC [1200 E California Blvd].

Filed Date: 4/28/23.

Accession Number: 20230428-5724.

Comment Date: 5 p.m. ET 5/19/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 2, 2023.
Debbie-Anne A. Reese,
Deputy Secretary.

[FR Doc. 2023-09977 Filed 5-9-23; 8:45 am]

BILLING CODE 6717-01-P